DEPARTMENT OF HEALTH AND HUMAN SERVICES

National Institutes of Health

Clinical Center; Proposed Collection; Comment Request; Customer and Other Partners Satisfaction Surveys

SUMMARY: In compliance with the requirement of Section 3506(c)(2)(A) of the Paperwork Reduction Act of 1995 for the opportunity for public comment on the proposed data collection projects, the National Institutes of Health Clinical Center (CC) will publish periodic summaries of proposed projects to be submitted to the Office of Management and Budget (OMB) for review and approval.

Proposed Collection: Title: Customer and Other Partners Satisfaction Surveys. Type of Information Collection Request: Extension request. Need and Use of Information Collection: The information collected in these surveys will be used by Clinical Center personnel: (1) To evaluate the satisfaction of various Clinical Center customers and other partners with Clinical Center services; (2) to assist with the design of modifications of these services, based on customer input; (3) to develop new services, based on customer need; and (4) to evaluate the satisfaction of various Clinical Center customers and other partners with implemented service modifications. These surveys will almost certainly lead to quality improvement activities that will enhance and/or streamline the Clinical Center's operations. The major mechanisms by which the Clinical Center will request customer input is through surveys and focus groups. The surveys will be tailored specifically to each class of customer and to that class of customer's needs. Surveys will either be collected as written documents, as faxed documents, mailed electronically or collected by telephone from customers. Information gathered from these surveys of Clinical Center customers and other partners will be presented to, and used directly by, Clinical Center management to enhance the services and operations of our organization. Frequency of Response: The participants will respond yearly. Affected public: Individuals and households; businesses and other for profit, small businesses and organizations. Types of respondents: These surveys are designed to assess the satisfaction of the Clinical Center's major internal and external customers with the services provided. These customers include, but are not limited to, the following groups of individuals: Clinical Center patients, family members of Clinical Center patients, visitors to the Clinical Center, NIH intramural collaborators, private physicians or organizations who refer patients to the Clinical Center, volunteers, vendors and collaborating commercial enterprises, small businesses, regulators, and other organizations. The annual reporting burden is as follows:

FY 2010
Customer | Number of respondents | Frequency of response | Average time per response | Annual hour burden
Clinical Center Patients | 5000 | 1 | .5 | 2500
Family Members of Patients | 2000 | 1 | .5 | 1000
Visitors to the Clinical Center | 1000 | 1 | .17 | 170
NIH Intramural Collaborators | 2000 | 1 | .17 | 340
Vendors and Collaborating Commercial Enterprises | 2500 | 1 | .33 | 833
Professionals and Organizations Referring Patients | 2000 | 1 | .33 | 833
Regulators | 30 | 1 | .33 | 10
Volunteers | 275 | 1 | .5 | 138
Total | 14,805 |  |  | 5,824

FY 2011
Customer | Number of respondents | Frequency of response | Average time per response | Annual hour burden
Clinical Center Patients | 5000 | 1 | .5 | 2500
Family Members of Patients | 3000 | 1 | .5 | 1500
Visitors to the Clinical Center | 1500 | 1 | .17 | 255
NIH Intramural Collaborators | 1500 | 1 | .25 | 375
Vendors and Collaborating Commercial Enterprises | 1000 | 1 | .25 | 250
Professionals and Organizations Referring Patients | 3000 | 1 | .33 | 1000
Regulators | 30 | 1 | .33 | 10
Volunteers | 275 | 1 | .33 | 92
Total | 15,305 |  |  | 5,982

FY 2012
Customer | Number of respondents | Frequency of response | Average time per response | Annual hour burden
Clinical Center Patients | 5000 | 1 | .5 | 2500
Family Members of Patients | 2000 | 1 | .5 | 1000
Visitors to the Clinical Center | 1000 | 1 | .17 | 170
NIH Intramural Collaborators | 1000 | 1 | .17 | 170
Vendors and Collaborating Commercial Enterprises | 2500 | 1 | .25 | 625
Professionals and Organizations Referring Patients | 3000 | 1 | .33 | 1000
Regulators | 25 | 1 | .25 | 6
Volunteers | 300 | 1 | .25 | 75
Total | 14,825 |  |  | 5,546

Estimated costs to the respondents consists of their time; time is estimated using a rate of $10.00 per hour for patients and the public; $30.00 for vendors, regulators, organizations and $55.00 for health care professionals. The estimated annual costs to respondents for each year for which the generic clearance is requested is $127,885 for 2010, $126,895 for 2011, and $120,730 for 2012. Estimated Capital Costs are $7,000. Estimated Operating and Maintenance costs are $75,000.

Requests for Comments: Written comments and/or suggestions from the public and affected agencies are invited on one or more of the following points: (1) Whether the proposed collection of information is necessary for the proper performance of the functions of the Clinical Center and the agency, including whether the information shall have practical utility; (2) The accuracy of the agency's estimate of the burden of the proposed collection of information, including the validity of the methodology and assumptions used; (3) Ways to enhance the quality, utility, and clarity of the information to be collected; and (4) Ways to minimize the burden of the collection of information on those who are to respond, including the use of automated, electronic, mechanical, or other technological collection techniques or other forms of information technology.

FOR FURTHER INFORMATION CONTACT: To request more information on the proposed project, or to obtain a copy of the data collection plans and instruments, contact: Dr. David K. Henderson, Deputy Director for Clinical Care, National Institutes of Health Clinical Center, Building 10, Room 6-1480, 10 Center Drive, Bethesda, Maryland 20892, or call non-toll free: 301-496-3515, or e-mail your request or comments, including your address to: dkh@nih.gov.

Comments Due Date: Comments regarding this information collection are best assured of having their full effect if received within 60 days of the date of this publication.

Dated: September 6, 2010.
David K. Henderson,
Deputy Director for Clinical Care, CC National Institutes of Health.

[FR Doc. 2010-23526 Filed 9-20-10; 8:45 am]

BILLING CODE 4140-01-P